DEPARTMENT OF LABOR

Occupational Safety and Health Administration

[Docket No. OSHA-2009-0025]

Underwriters Laboratories, Inc.: Modification of Scope of Recognition

AGENCY: Occupational Safety and Health Administration (OSHA), Labor.

ACTION: Notice of final decision.

SUMMARY: In this notice, the Occupational Safety and Health Administration announces its final decision to expand the scope of recognition of Underwriters Laboratories, Inc., as a Nationally Recognized Testing Laboratory under 29 CFR 1910.7.

DATES: This modification of the scope of recognition is effective on April 28, 2014.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email; Meilinger.francis2@dol.gov.

General and technical information: Contact Mr. David Johnson, Director, Office of Technical Programs and Coordination Activities, Directorate of Technical Support and Emergency Management, Occupational Safety and Health Administration, U.S. Department of Labor, 200 Constitution Avenue NW., Room N-3655, Washington, DC 20210; telephone: (202) 693-2110; email: at johnson.david.w@dol.gov.

Copies of this Federal Register notice: Electronic copies of this Federal Register notice are available under Docket No. OSHA-2009-0025 at http://www.regulations.gov. This Federal Register notice also is available on OSHA's Web site at http://www.osha.gov.

SUPPLEMENTARY INFORMATION:

I. Notice of Final Decision

The Occupational Safety and Health Administration (OSHA or Agency) hereby gives notice of the expansion of the scope of recognition of Underwriters Laboratories, Inc. (UL), as a Nationally Recognized Testing Laboratory (NRTL). UL's expansion covers the addition of multiple test standards to its scope of recognition.

OSHA recognition of an NRTL signifies that the organization meets the requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification of the products.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from the Agency's Web site at http://www.osha.gov/dts/otpca/nrtl/index.html.

UL submitted an application, dated March 26, 2013, to expand its recognition to include multiple additional test standards (Exhibit 1: UL Application). OSHA staff reviewed UL's application and other pertinent information and performed a comparability analysis. OSHA did not perform any on-site reviews in relation to this application. OSHA staff determined that the 23 standards UL requested to add to its scope of recognition are “appropriate test standards” within the meaning of 29 CFR 1910.7(c).

OSHA published the preliminary notice announcing UL's expansion application in the Federal Register on December 5, 2013 (78 FR 73208). The Agency requested comments by December 26, 2013, but it received no comments in response to this notice. OSHA now is proceeding with this final notice to grant expansion of UL's scope of recognition.

To obtain or review copies of all public documents pertaining to the UL application, contact the Docket Office, Occupational Safety and Health Administration, U.S. Department of Labor, 200 Constitution Avenue NW., Room N-2625, Washington, DC 20210. Docket No. OSHA-2009-0025 contains all materials in the record concerning UL's application.

II. Final Decision and Order

The NRTL Program staff examined UL's expansion application, its capability to meet the requirements of the test standards, and other pertinent information. Based on its review of this evidence, OSHA finds that UL meets the requirements of 29 CFR 1910.7 for expansion of its recognition, subject to the limitation and conditions listed below.

OSHA limits the expansion of UL's recognition to testing and certification of products for demonstration of conformance to the following test standards, each of which OSHA determines is an appropriate test standard, within the meaning of 29 CFR 1910.7(c):

Table 1—List of Appropriate Test Standards for Inclusion in UL's NRTL Scope of Recognition
Test standard | Test standard title
UL 60730-1 | Automatic Electrical Controls for Household and Similar Use, Part 1: General Requirements.
ANSI/UL 60730-2-2 | Automatic Electrical Controls for Household and Similar Use; Part 2 Particular Requirements for Thermal Motor Protectors.
UL 60730-2-14 | Automatic Electrical Controls for Household and Similar Use; Part 2: Particular Requirements for Electric Actuators.
ANSI/UL 1008A | Medium-Voltage Transfer Switches.
ANSI/UL 61010-1 | Electrical Equipment for Measurement, Control, and Laboratory Use; Part 1: General Requirements.
ANSI/UL 61010-2-030 | Safety Requirements for Electrical Equipment for Measurement, Control, and Laboratory Use—Part 2-030: Particular Requirements for Testing and Measuring Circuits.
ANSI/UL 61010-031 | Electrical Equipment for Measurement, Control, and Laboratory Use; Part 031: Safety Requirements for Hand-Held Probe Assemblies for Electrical Measurement and Test.
ANSI/UL 60950-1 | Information Technology Equipment Safety—Part 1: General Requirements.
ANSI/UL 60950-21 | Information Technology Equipment—Safety—Part 21: Remote Power Feeding.
ANSI/UL 60950-22 | Information Technology Equipment Safety—Part 22: Equipment to be Installed Outdoors.
ANSI/UL 60950-23 | Information Technology Equipment Safety—Part 23: Large Data Storage Equipment.
ANSI/UL 60947-4-1A | Low-Voltage Switchgear and Controlgear—Part 4-1A: Contactors and Motor-Starters—Electromechanical Contactors and Motor—Starters.
ANSI/UL 2738 | Induction Power Transmitters and Receivers for Use with Low Energy Products.
ANSI/UL 1990 | Nonmetallic Underground Conduit with Conductors.
ANSI/UL 60947-5-2 | Low-Voltage Switchgear and Controlgear—Part 5-2: Control Circuit Devices and Switching Elements—Proximity Switches.
ANSI/UL 1691 | Single Pole Locking-Type Separable Connectors.
ANSI/UL 61058-1 | Switches for Appliances—Part 1: General Requirements.
ANSI/UL 2108 | Low-Voltage Lighting Systems.
ANSI/UL 60745-2-16 | Hand-Held Motor—Operated Electric Tools—Safety—Part 2-16: Particular Requirements for Tackers.
ANSI/UL 60745-2-22 | Hand-Held Motor-Operated electric Tools—Safety—Part 2-22: Particular Requirements for Cut-Off Machines.
ANSI/UL 60335-2-3 | Household and Similar Electrical Appliances, Part 2: Particular Requirements for Electric Irons.
ANSI/UL 962A | Furniture Power Distribution Units.
ANSI/UL 2438 | Outdoor Seasonal-Use Cord-Connected Wiring Devices.

The designations and titles of these test standards were current at the time of the preparation of this notice.

OSHA's recognition of any NRTL for a particular test standard is limited to equipment or materials for which OSHA standards require third-party testing and certification before using them in the workplace. Consequently, if a test standard also covers any products for which OSHA does not require such testing and certification, an NRTL's scope of recognition does not include that product.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI approved.

A. Conditions

In addition to those conditions already required by 29 CFR 1910.7, UL also must abide by the following conditions of the recognition:

1. UL must inform OSHA as soon as possible, in writing, of any change of ownership, facilities, or key personnel, and of any major change in its operations as an NRTL, and provide details of the change(s);

2. UL must meet all the terms of its recognition and comply with all OSHA policies pertaining to this recognition; and

3. UL must continue to meet the requirements for recognition, including all previously published conditions on UL's scope of recognition, in all areas for which it has recognition.

Pursuant to the authority in 29 CFR 1910.7, OSHA hereby expands the scope of recognition of UL, subject to the limitation and conditions specified above.

III. Authority and Signature

David Michaels, Ph.D., MPH, Assistant Secretary of Labor for Occupational Safety and Health, 200 Constitution Avenue NW., Washington, DC 20210, authorized the preparation of this notice. Accordingly, the Agency is issuing this notice pursuant to Section 8(g)(2) of 29 U.S.C. 657(g)(2), Secretary of Labor's Order No. 1-2012 (77 FR 3912, Jan. 25, 2012), and 29 CFR 1910.7.

Signed at Washington, DC, on April 22, 2014.
David Michaels,
Assistant Secretary of Labor for Occupational Safety and Health.

[FR Doc. 2014-09530 Filed 4-25-14; 8:45 am]

BILLING CODE 4510-26-P